DEPARTMENT OF ENERGY

Federal Energy Regulatory Commission

[Project No. 6649-008]

Michael J. Donahue; Notice of Termination of Exemption by Implied Surrender and Soliciting Comments, Protests, and Motions To Intervene

Take notice that the following hydroelectric proceeding has been initiated by the Commission:

a. Type of Proceeding: Termination of exemption by implied surrender.

b. Project No.: 6649-008.

c. Date Initiated: September 13, 2011.

d. Exemptee: Michael J. Donahue.

e. Name and Location of Project: The Fairbanks Mill Project is located on the Sleeper's River in Caledonia County, Vermont.

f. Initiated Pursuant to: 18 CFR 4.106.

g. Exemptee Contact Information: Mr. Michael J. Donahue, Route 3, Box 269, Lincoln, NH 03251.

h. FERC Contact: Tom Papsidero, (202) 502-6002, or Thomas.papsidero@ferc.gov.

i. Deadline for filing comments, protests, and motions to intervene is 30 days from the issuance date of this notice. All documents may be filed electronically via the Internet in lieu of paper. See 18 CFR 385.2001(a)(1)(iii) and the instructions on the Commission's Web site at http://www.ferc.gov/docs-filing/efiling.asp. The Commission strongly encourages electronic filings. If unable to be filed electronically, documents may be paper-filed. To paper-file, an original and seven copies should be sent to: The Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-6649-008) on any documents or motions filed.

j. Description of Existing Facilities: The inoperative project consists of the following existing facilities: (1) Timber-crib dam with an overall length of 60 feet and a maximum height of 10 feet; (2) an intake structure; (3) a 2-inch-diameter, 50-foot-long steel penstock; and (4) a powerhouse containing one unit with a total capacity of 18 kilowatts.

k. Description of Proceeding: The exemptee is currently in violation of Standard Article 1 of its exemption granted on October 8, 1982 (21 FERC ¶ 62,070). Section 4.106(a) of the Commission's regulations, 18 CFR 4.106(a) (2011), provides, among other things, that the Commission reserves the right to revoke an exemption if any term or condition of the exemption is violated. The project has not generated since the early 1990s and has been abandoned by the exemptee. By not operating the project as proposed and authorized, the exemptee is in violation of the terms and conditions of the exemption.

Based on staff's most recent inspection on August 18, 2010, the exemptee has not made any progress toward bringing the project back into operation. On April 13, 2011, Commission staff sent a letter to the exemptee requiring him to show cause why the Commission should not initiate a proceeding to terminate the exemption based on his implied surrender of the exemption. The letter directed the exemptee to provide information, including documentation of contracts issued, permits obtained, agreements made, etc., and to show cause why the Commission should not terminate the exemption for lack of adequate progress toward the resumption of generation at the project. To date, the exemptee has failed to respond and the project remains inoperative. Commission staff continues to inspect the project every three years and reports that it remains inoperable and in poor condition.

l. This notice is available for review and reproduction at the Commission in the Public Reference Room, Room 2A, 888 First Street, NE., Washington, DC 20426. The filing may also be viewed on the Commission's Web site at http://www.ferc.gov/docs-filing/elibrary.asp. Enter the Docket number excluding the last three digits in the docket number field to access the notice. You may also register online at http://www.ferc.gov/docs-filing/esubscription.asp to be notified via email of new filings and issuances related to this or other pending projects. For assistance, call toll-free 1-866-208-3676 or e-mail FERCOnlineSupport@ferc.gov. For TTY, call (202) 502-8659.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must (1) Bear in all capital letters the title “Comments”, “Protest”, or “Motion To Intervene,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works which are the subject of the termination of exemption. A copy of any protest or motion to intervene must be served upon each representative of the exemptee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR 4.34(b) and 385.2010.

p. Agency Comments—Federal, State, and local agencies are invited to file comments on the described proceeding. If any agency does not file comments within the time specified for filing comments, it will be presumed to have no comments.

Dated: September 13, 2011.
Kimberly D. Bose,
Secretary.

[FR Doc. 2011-24019 Filed 9-19-11; 8:45 am]

BILLING CODE 6717-01-P